DEPARTMENT OF ENERGY

Federal Energy Regulatory Commission

Sunshine Act Meeting Notice

The following notice of meeting is published pursuant to section 3(a) of the government in the Sunshine Act (Pub. L. 94-409), 5 U.S.C. 552b:

AGENCY HOLDING MEETING: Federal Energy Regulatory Commission.

DATE AND TIME: July 19, 2018, 10:00 a.m.

PLACE: Room 2C, 888 First Street NE, Washington, DC 20426.

STATUS: Open.

MATTERS TO BE CONSIDERED: Agenda.* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at http://ferc.capitolconnection.org/ using the eLibrary link, or may be examined in the Commission's Public Reference Room.

1046th—Meeting
Item No. | Docket No. | Company
Administrative
A-1 | AD18-1-000 | Agency Administrative Matters.
A-2 | AD18-2-000 | Customer Matters, Reliability, Security and Market Operations.
Electric
E-1 | RM18-2-000 | Cyber Security Incident Reporting Reliability Standards.
E-2 | RM18-15-000 | Revisions to Parts 45 and 46 of the Commission's Regulations.
E-3 | RR17-6-000 | North American Electric Reliability Corporation.
E-4 | EL15-67-003 | Linden VFT, LLC v. PJM Interconnection, L.L.C.
| ER15-2562-002 | PJM Interconnection, L.L.C.
| ER17-950-003 | PJM Interconnection, L.L.C.
| EL17-68-000 | Linden VFT, LLC v. PJM Interconnection, L.L.C.
| EL17-84-001 | PJM Interconnection, L.L.C.
| EL17-90-001 | Linden VFT, LLC v. Public Service Electric and Gas Company and PJM Interconnection, L.L.C.
| EL17-94-000 | New York Power Authority v. PJM Interconnection, L.L.C. and PJM Transmission Owners in their Collective Capacity.
| ER18-579-002 | PJM Interconnection, L.L.C.
| ER18-680-000 (Not Consolidated) | PJM Interconnection, L.L.C.
E-5 | EL18-146-000 | KCP&L Greater Missouri Operations Company.
E-6 | EL15-95-003 | Delaware Public Service Commission and Maryland Public Service Commission v. PJM Interconnection, L.L.C. and Certain Transmission Owners Designated under CTOA RS FERC No. 42.
Gas
G-1 | OR14-4-002 | Guttman Energy, Inc. and PBF Holding Company LLC v. Buckeye Pipe Line Company, L.P. and Laurel Pipe Line Company, L.P.
Hydro
H-1 | OMITTED |
H-2 | P-2114-296 | Public Utility District No. 2 of Grant County, Washington.
H-3 | P-12611-011 | Verdant Power, LLC.
Certificates
C-1 | CP17-80-000 | Columbia Gas Transmission, LLC.
C-2 | CP18-10-000 | Texas Eastern Transmission, LP.
C-3 | CP17-441-000, CP17-441-001 | Northwest Pipeline LLC.
C-4 | CP18-66-000 CP18-69-000 | Gulf South Pipeline Company, LP. Tristate NLA, LLC.
C-5 | CP18-5-001 | Constitution Pipeline Company, LLC.
C-6 | CP16-22-001 | NEXUS Gas Transmission, LLC.
| CP16-23-001 | Texas Eastern Transmission, LP.
| CP16-24-001 | DTE Gas Company.
| CP16-102-001 | Vector Pipeline L.P.
C-7 | CP16-486-001 | Millennium Pipeline Company, L.L.C.

Issued: July 12, 2018.
Kimberly D. Bose,
Secretary.

A free webcast of this event is available through http://ferc.capitolconnection.org/. Anyone with internet access who desires to view this event can do so by navigating to www.ferc.gov' s Calendar of Events and locating this event in the Calendar. The event will contain a link to its webcast. The Capitol Connection provides technical support for the free webcasts. It also offers access to this event via television in the DC area and via phone bridge for a fee. If you have any questions, visit http://ferc.capitolconnection.org/ or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2018-15318 Filed 7-13-18; 4:15 pm]

BILLING CODE 6717-01-P